NUCLEAR REGULATORY COMMISSION

[NRC-2018-0137]

Dispositioning of Technical Specifications That Are Insufficient To Ensure Plant Safety

AGENCY: Nuclear Regulatory Commission.

ACTION: Draft regulatory guide; reopening of comment period.

SUMMARY: On July 5, 2018, the U.S. Nuclear Regulatory Commission (NRC) solicited comments on draft regulatory guide (DG), DG-1351, “Dispositioning of Technical Specifications that are Insufficient to Ensure Plant Safety.” The public comment period was originally scheduled to close on September 4, 2018. The NRC has decided to extend the public comment period by 30 days to allow more time for members of the public to develop and submit their comments.

DATES: The due date of comments requested in the document published on July 5, 2018 (83 FR 31429), is being reopened. The NRC is reopening the public comment period that had closed on September 4, 2018, to allow more time for members of the public to develop and submit their comments. Comments should be filed no later than October 11, 2018. Comments received after this date will be considered, if it is practical to do so, but the Commission is able to ensure consideration only for comments received on or before this date.

ADDRESSES: You may submit comments by any of the following methods (unless this document describes a different method for submitting comments on a specified subject):

• Federal Rulemaking Website: Go to http://www.regulations.gov and search for Docket ID NRC-2018-0137. Address questions about NRC dockets to Jennifer Borges; telephone: 301-287-9127; email: Jennifer.Borges@nrc.gov. For technical questions, contact the individuals listed in the FOR FURTHER INFORMATION CONTACT section of this document.

• Mail comments to: May Ma, Office of Administration, Mail Stop: TWFN-7A-86, U.S. Nuclear Regulatory Commission, Washington, DC 20555-0001.

For additional direction on accessing information and submitting comments, see “Obtaining Information and Submitting Comments” in the SUPPLEMENTARY INFORMATION section of this document.

FOR FURTHER INFORMATION CONTACT: Blake Purnell, Office of Nuclear Reactor Regulation, telephone: 301-415-1380, email: blake.purnell@nrc.gov and Stephen Burton, Office of Nuclear Regulatory Research, telephone: 301-415-7000, email: Stephen.Burton@nrc.gov. Both are staff of the U.S. Nuclear Regulatory Commission, Washington, DC 20555-0001.

SUPPLEMENTARY INFORMATION:

I. Obtaining Information and Submitting Comments

A. Obtaining Information

Please refer to Docket ID NRC-2018-0137 when contacting the NRC about the availability of information regarding this action. You may obtain publically-available information related to this action, by any of the following methods:

• Federal Rulemaking Website: Go to http://www.regulations.gov and search for Docket ID NRC-2018-0137.

• NRC's Agencywide Documents Access and Management System (ADAMS): You may obtain publicly-available documents online in the ADAMS Public Documents collection at http://www.nrc.gov/reading-rm/adams.html. To begin the search, select “Begin Web-based ADAMS search.” For problems with ADAMS, please contact the NRC's Public Document Room (PDR) reference staff at 1-800-397-4209, 301-415-4737, or by email to pdr.resource@nrc.gov. The draft regulatory guide is electronically available in ADAMS under Accession No. ML16124A200.

• NRC's PDR: You may examine and purchase copies of public documents at the NRC's PDR, Room O1-F21, One White Flint North, 11555 Rockville Pike, Rockville, Maryland 20852.

B. Submitting Comments

Please include Docket ID NRC-2018-0137 in your comment submission. The NRC cautions you not to include identifying or contact information that you do not want to be publicly disclosed in your comment submission. The NRC will post all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On July 5, 2018, the NRC solicited comments on draft regulatory guide (DG) DG-1351, “Dispositioning of Technical Specifications that are Insufficient to Ensure Plant Safety.” The public comment period was originally scheduled to close on September 4, 2018. The NRC received a request from stakeholders to extend the public comment period by 30 days. The NRC has agreed to the request and decided to reopen the public comment period until October 11, 2018, to allow more time for members of the public to develop and submit their comments.

Dated at Rockville, Maryland, this 6th day of September 2018.
For the Nuclear Regulatory Commission.
Thomas H. Boyce,
Chief, Regulatory Guidance and Generic Issues Branch, Division of Engineering, Office of Nuclear Regulatory Research.

[FR Doc. 2018-19677 Filed 9-10-18; 8:45 am]

BILLING CODE 7590-01-P